DEPARTMENT OF THE INTERIOR

Bureau of Land Management

National Park Service

[ID 231 1610 DR 051D]

Notice of Availability of Record of Decision (ROD) for the Craters of the Moon National Monument and Preserve Monument Management Plan (MMP)/Environmental Impact Statement (EIS)

AGENCIES: Bureau of Land Management, National Park Service, Interior.

ACTION: Notice of availability of a record of decision (ROD).

SUMMARY: In accordance with the Federal Land Policy and Management Act of 1976, the National Park and Recreation Act of 1978, and the National Environmental Policy Act of 1969, the Bureau of Land Management (BLM) and the National Park Service (NPS) announce the availability of the Record of Decision for the Monument Management Plan (MMP) for the Craters of the Moon National Monument and Preserve, located in southeastern Idaho. The Idaho State Director, BLM, and the Pacific West Regional Director, NPS, have signed the ROD, effective upon signing.

ADDRESSES: Copies of the Craters of the Moon National Monument and Preserve ROD are available upon request from the Monument Manager, Shoshone Field Office, Bureau of Land Management, 400 West F Street, Shoshone, ID 83352 or the Superintendent, National Park Service, P.O. Box 29, Arco, ID 83213. The document may also be viewed on the following Web sites: http://www.nps.gov/crmo or http://www.id.blm.gov/shoshone/plans/crmo/index.htm.

FOR FURTHER INFORMATION CONTACT: Holly Hampton, Monument Manager, Shoshone Field Office, Bureau of Land Management, 400 West F Street, Shoshone, ID 83352, phone (208) 732-7200 (Holly_Hampton@blm.gov), or Doug Neighbor, Superintendent, National Park Service, Craters of the Moon National Monument and Preserve, P.O. Box 29, Arco, ID 83213, phone (208) 527-3257 (Doug_Neighbor@nps.gov).

SUPPLEMENTARY INFORMATION: Established in 1924, the Craters of the Moon National Monument was expanded by Presidential Proclamation 7373 on November 9, 2000, for the purpose of protecting “the entire Great Rift volcanic zone and associated lava features, all objects of scientific interest.” On August 21, 2002, Public Law 107-213 re-designated the NPS portion of the expanded Monument as a National Preserve. The BLM and the NPS were directed to prepare a management plan for the Monument and Preserve to be jointly implemented by both agencies. The Craters of the Moon National Monument and Preserve MMP was developed with broad public participation through a three-year collaborative planning process. This MMP addresses management on approximately 739,682 acres of federal land in the planning area. The MMP is designed to achieve or maintain desired future conditions developed through the planning process. It includes a series of management actions to meet the desired resource conditions for natural resources, cultural resources, Native American rights and interests, land use and transportation, visitor experience, and social and economic conditions.

The approved Craters of the Moon Monument Management Plan is essentially the same as Alternative D in the Proposed Craters of the Moon National Monument and Preserve Management Plan/Final Environmental Impact Statement, published in August 2005. BLM received three protests to the proposed plan, all of which have been withdrawn or resolved. No inconsistencies with State or local plans, policies, or programs were identified during the Governor's consistency review of the proposed plan.

Dated: September 7, 2006.
Bud C. Cribley,
Bureau of Land Management, Acting Idaho State Director.
Dated: September 12, 2006.
Jonathan B. Jarvis,
National Park Service, Regional Director, Pacific West Region.

Editorial Note: This document was received at the Office of the Federal Register on December 28, 2006.

[FR Doc. 06-9974 Filed 1-4-07; 8:45 am]

BILLING CODE 4310-GG-P